DEPARTMENT OF ENERGY

Federal Energy Regulatory Commission

[Docket No. CP09-151-000]

National Fuel Gas Supply Corporation; Notice of Request Under Blanket Authorization

April 16, 2009.

Take notice that on April 14, 2009, National Fuel Gas Supply Corporation (National Fuel), 6363 Main Street, Williamsville, New York 14221-5887, filed a prior notice request pursuant to Parts 157.205 and 157.216 of the Commission's regulations under the Natural Gas Act (NGA) and National Fuel's blanket certificate issued in Docket No. CP83-4-000, for authorization to abandon one injection/withdrawal well in Wharton Storage Field located in Potter County, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, National Fuel proposes to abandon one injection/withdrawal well (Well WH-34) and the associated well line (TRW-34) in Wharton Storage Field located in Potter County, Pennsylvania. National Fuel states that Well WH-34 is no longer useful due to poor injection performance and poor deliverability and needs to be reconditioned or plugged due to deterioration of the well casing. National Fuel asserts that all work will be confined to the existing well site. National Fuel states that after Well WH-34 is plugged and abandoned, the well site will be restored and revegetated. National Fuel also proposes to abandon in place well line TRW-34, totaling approximately 1,200 feet of 6-inch diameter well line. National Fuel asserts that the cost to construct similar facilities today is approximately $1 million. National Fuel avers that the proposed abandonment will not result in a material decrease in service to customers.

Any questions regarding the application should be directed to David W. Reitz, Deputy General Counsel, National Fuel Gas Supply Corporation, 6363 Main Street, Williamsville, New York 14221-5887, at (716) 857-7949.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-9229 Filed 4-21-09; 8:45 am]

BILLING CODE 6717-01-P